DEPARTMENT OF ENERGY

Federal Energy Regulatory Commission

[Docket No. RP01-402-000]

Destin Pipeline Company, L.L.C.; Notice of Proposed Changes in FERC Gas Tariff

May 7, 2001.

Take notice that on May 2, 2001 Destin Pipeline Company, L.L.C. (Destin) tendered for filing as part of its FERC Gas Tariff, Original Volume No. 1, Third Revised Sheet No. 65 with a proposed effective date of June 1, 2001.

Destin states that the filing is being made to clarify Section 8.3 of Destin's General Terms and Conditions (force majeure provision) to the effect that a force majeure declaration by a shipper does not excuse such shipper from the payment of any applicable reservation charges during the period of the force majeure.

Destin states that a copy of this filing has been served upon is customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protest will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11887 Filed 5-10-01; 8:45 am]

BILLING CODE 6717-01-M